DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: American Lobster—Annual Trap Transfer Program.

OMB Control Number: 0648-0673.

Form Number(s): None.

Type of Request: Regular (revision and extension of a currently approved information collection).

Number of Respondents: 204.

Average Hours Per Response: 10 minutes.

Burden Hours: 17.

Needs and Uses: This is a request for revision and extension of a currently approved information collection.

The American lobster resource and fishery are cooperatively managed by the states and NMFS under the authority of the Atlantic Coastal Fisheries Cooperative Management Act, according to the framework set forth by the Atlantic States Marine Fisheries Commission (ASMFC) in Amendment 3 of its Interstate Fishery Management Plan (ISFMP). This collection of information is in response to several addenda to Amendment 3 of the ISFMP that work to reduce trap fishing effort through limited entry fishing and trap allocation limit reductions. This program is intended to help control fishing efforts while increasing economic flexibility in the American lobster trap fishery.

Currently, Federal lobster permit holders qualified to fish with trap gear in Lobster Conservation Management Areas 2 and 3 are undergoing scheduled annual trap allocation reductions of 5 percent per year until 2021 (Area 2) and 2020 (Area 3). In 2015, in an effort to help mitigate the initial economic burden of these reductions, NMFS and state agencies implemented the Lobster Trap Transfer Program that allows all qualified Federal lobster permit holders to buy and sell trap allocation from Areas 2, 3, or Outer Cape Cod. Each transaction includes a conservation tax of 10 percent, which deducts a number of traps equal to 10 percent of the total number of traps with each transfer, permanently removing them from the fishery.

NMFS collects annual application forms from Lobster permit holders who wish to buy and/or sell Area 2, 3, or Outer Cape trap allocation through the Trap Transfer Program. The transfer applications are only accepted during a 2-month period (from August 1 through September 30) each year, and the revised allocations for each participating lobster permit resulting from the transfers become effective at the start of the following Federal lobster fishing year, on May 1. Both the seller and buyer of the traps are required to sign the application form, which includes each permit holder's permit and vessel information, the number of traps sold, and the revised number of traps received by the buyer, inclusive of the amount removed according to the transfer tax. The parties must date the document and clearly show that the transferring permit holder has sufficient allocation to transfer and the permit holder receiving the traps has sufficient room under any applicable trap cap. This information allows NMFS to process and track transfers of lobster trap allocations through the Trap Transfer Program, and better enables the monitoring and management of the American lobster fishery as a whole.

Originally, this collection was part of a new rulemaking action, and included efforts to obtain information from American lobster permit holders to implement a limited access permit program. NMFS used the information to qualify permit holders for participation in Area 2 and/or the Outer Cape Area, and to allocate traps to each qualified permit. This limited access portion of the collection is complete and no longer necessary, so a revision is requested to remove it from the collection.

Affected Public: Business or other for-profit organizations; individuals or households; state, local or tribal governments.

Frequency: On occasion.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: December 27, 2016.
Sarah Brabson,
NOAA PRA Clearance Officer.

[FR Doc. 2016-31716 Filed 12-29-16; 8:45 am]

BILLING CODE 3510-22-P